DEPARTMENT OF HEALTH AND HUMAN SERVICES

Administration for Community Living

Availability of Program Application Instructions for Adult Protective Services Funding

Title: Coronavirus Response and Relief Supplemental Appropriations Act of 2021: Grants to Enhance Adult Protective Services to Respond to COVID-19.

Announcement Type: Initial.

Statutory Authority: The statutory authority for grants under this program announcement is contained in the Elder Justice Act Section 2042(b) of Title XX of the Social Security Act [Pub. L. 74-271] [As Amended Through Pub. L. 115-123, Enacted February 9, 2018] as referenced in the Coronavirus Response and Relief Supplemental Appropriations Act of 2021.

Catalog of Federal Domestic Assistance (CFDA) Number: 93.747.

DATES: The deadline date for the submission of the Coronavirus Response and Relief Supplemental Appropriations Act of 2021: Grants to Enhance Adult Protective Services to Respond to COVID-19 Letter of Assurance is 11:59PM EST March 3, 2021.

I. Funding Opportunity Description

The Administration for Community Living (ACL) is establishing the Coronavirus Response and Relief Supplemental Appropriations Act of 2021: Grants to Enhance Adult Protective Services to Respond to COVID-19 funding opportunity to implement Section 2042(b) of Subtitle B of Title XX of the Social Security Act, otherwise known as the Elder Justice Act (EJA) as authorized and funded through the Coronavirus Response and Relief Supplemental Appropriations Act, 2021. In accordance with these statutes, the purpose of this opportunity is to enhance and improve adult protective services provided by States and local units of government in response to the COVID-19 pandemic.

Funds awarded under this opportunity will provide Adult Protective Services programs (APS) in the States and territories with resources related to their response during the Coronavirus Public Health Emergency. This funding is intended to enhance, improve, and expand the ability of APS to investigate allegations of abuse, neglect, and exploitation in the context of COVID-19. Examples of activities consistent with the purposes of the authorizing legislation include:

• Improving and supporting remote work, such as the purchase of communications and technology hardware, software, or infrastructure;

• Costs associated with establishing new, or improving existing processes for responding to alleged scams and frauds, especially related to COVID-19 vaccine or cure scams;

• Costs associated with community outreach;

• Costs associated with providing goods and services to APS clients related to COVID-19;

• Acquiring personal protection equipment and supplies;

• Paying for extended hours/over-time for staff, hiring temporary staff, and associated personnel costs;

• Training costs related to COVID-19;

• Funds for travel related to or required by COVID-19.

• Costs associated with assisting APS clients secure the least restrictive option for emergency or alternative housing, and with obtaining, providing, or coordinating with care transitions as appropriate.

Awards authorized under the EJA Section 2042(b) shall be provided to the agency or unit of State government having the legal responsibility for providing adult protective services within the State. This funding must supplement and not supplant existing funding for adult protective services provided by States and local units of government. Additionally, award recipients will be required to submit semi-annual federal financial reports and annual program reports related to the activities performed. To be eligible to receive this grant, the agency or unit of State government having the legal responsibility for providing adult protective services must submit a Letter of Assurance to ACL containing all of the assurances required, and an initial outline of a plan to spend the funds (see below “Section III. Eligibility Criteria and Other Requirements” and “Section IV. Submission Information”).

II. Award Information

1. Funding Instrument Type

These awards will be made in the form of formula grants to the agencies and units of State government with the legal responsibility to provide adult protective services.

2. Anticipated Total Funding per Budget Period

Under this program announcement, ACL intends to make grant awards to each State and territory, and the District of Columbia. Awards made under this announcement have an estimated start date of April 1, 2021 and an estimated end date of September 30, 2022, for an 18-month budget and performance period.

The total available funding for this opportunity is $93,880,000. Funding will be distributed through the formula identified in Section 2042(b) of the Elder Justice Act. The amounts allocated are based upon the proportion of elders living in each state and territory, as defined in statute, and will be distributed based on the formula. There are no cost-sharing nor match requirements. Below are the projected award amounts:

State/territory | Projected amount
Alabama | $1,367,545
Alaska | 704,100
Arizona | 2,034,877
Arkansas | 831,205
California | 9,476,701
Colorado | 1,390,039
Connecticut | 1,022,558
Delaware | 704,100
Dist. of Columbia | 140,809
Florida | 6,896,415
Georgia | 2,490,713
Hawaii | 704,100
Idaho | 704,100
Illinois | 3,324,229
Indiana | 1,765,688
Iowa | 884,872
Kansas | 768,741
Kentucky | 1,216,527
Louisiana | 1,211,268
Maine | 704,100
Maryland | 1,571,936
Massachusetts | 1,893,433
Michigan | 2,868,691
Minnesota | 1,501,422
Mississippi | 788,509
Missouri | 1,712,169
Montana | 704,100
Nebraska | 704,100
Nevada | 795,772
New Hampshire | 704,100
New Jersey | 2,401,390
New Mexico | 704,100
New York | 5,306,382
North Carolina | 2,813,974
North Dakota | 704,100
Ohio | 3,319,395
Oklahoma | 1,022,727
Oregon | 1,212,402
Pennsylvania | 3,839,908
Rhode Island | 704,100
South Carolina | 1,490,158
South Dakota | 704,100
Tennessee | 1,842,330
Texas | 6,174,152
Utah | 704,100
Vermont | 704,100
Virginia | 2,205,652
Washington | 1,962,724
West Virginia | 704,100
Wisconsin | 1,655,767
Wyoming | 704,100
American Samoa | 93,880
Guam | 93,880
Northern Marianas | 93,880
Puerto Rico | 1,037,800
Virgin Islands | 93,880

III. Eligibility Criteria and Other Requirements

1. Eligible Entities

The eligible entity for these awards is the agency or unit of State government legally responsible for providing adult protective services in each state and territory (EJA Section 2042(b)).

2. Other Requirements

A. Letter of Assurance

A Letter of Assurance is required to be submitted by the eligible entity in order to receive an award. The Letter of Assurance must include the following:

1. Assurance that the award recipient is the agency or unit of State government legally responsible for providing adult protective services in each state and territory.

2. Assurance that funds will supplement and not supplant existing APS funding.

3. Assurance that funds will be spent in ways consistent with the Elder Justice Act Section 2042(b); the Coronavirus Response and Relief Supplemental Appropriations Act, 2021; and guidance provided by ACL, including the examples of activities consistent with the purposes of the authorizing legislation:

• Improving and supporting remote work, such as the purchase of communications and technology hardware, software, or infrastructure;

• Costs associated with establishing new or improving existing processes for responding to alleged scams and frauds, especially related to COVID-19 vaccine or cure scams;

• Costs associated with community outreach;

• Costs associated with providing goods and services to APS clients related to COVID-19;

• Acquiring personal protection equipment and supplies;

• Paying for extended hours/over-time for staff, hiring temporary staff, and associated personnel costs;

• Training costs related to COVID-19;

• Funds for travel related to or required by COVID-19.

4. Assurance to provide semi-annual federal financial reports and annual program reports related to the activities performed.

B. Initial Spend Plan

An Initial Spend Plan must be submitted along with the Letter of Assurance. The Initial Spend Plan should outline how the state/territory intends to spend their allotment in response to the needs and challenges to their APS program brought about by COVID-19. The plan should be consistent with the purpose of the authorizing legislation and examples outlined above. The Initial Spend Plan submitted in response to this opportunity is considered a preliminary framework for how the state/territory will plan to spend these funds. The Initial Spend Plan should have the following format: 2-5 pages in length, double-spaced, with 12pt font and 1″ margins, with a layout of 8.5″ x 11″ paper.

C. DUNS Number

All grant applicants must obtain and keep current a D-U-N-S number from Dun and Bradstreet. It is a nine-digit identification number, which provides unique identifiers of single business entities. The D-U-N-S number can be obtained from: https://iupdate.dnb.com/iUpdate/viewiUpdateHome.htm.

D. Intergovernmental Review

Executive Order 12372, Intergovernmental Review of Federal Programs, is not applicable to these grant applications.

IV. Submission Information

1. Letter of Assurance and Initial Spend Plan

To receive funding, eligible entities must provide a Letter of Assurance and an Initial Spend Plan containing all the information outlined in Section III A. & B. above.

Letters of Assurance and the Initial Spend Plan should be addressed to: Alison Barkoff, Acting Administrator and Assistant Secretary for Aging, Administration for Community Living, 330 C Street SW, Washington, DC 20201.

Letters of Assurance and the Initial Spend Plan should be submitted electronically via email to the ACL Regional Administrator for each state. The following table identifies the ACL regions for each state and contact information for each Regional Administrator.

| Covered states | ACL regional administrator
Region I | CT, MA, ME, NH, RI, VT | Jennifer Throwe, Email: jennifer.throwe@acl.hhs.gov, Phone: 617-565-1158.
Region II | NY, NJ, PR, VI | Kathleen Otte, Email: kathleen.otte@acl.hhs.gov, Phone: 212-264-2976.
Region III | DC, DE, MD, PA, VA, WV | Rhonda Schwartz, Email: rhonda.schwartz@acl.hhs.gov, Phone: 267-831-2329.
Region IV | AL, FL, GA, KY, MS, NC, SC, TN | Costas Miskis, Email: Constantinos.Miskis@acl.hhs.gov, Phone: 404-562-7600.
Region V | IL, IN, MI, MN, OH, WI | Amy Wiatr-Rodriguez, Email: Amy.Wiatr-Rodriguez@acl.hhs.gov, Phone: 312-938-9858.
Region VI | AR, LA, OK, NM, TX | Derek Lee, Email: derek.lee@acl.hhs.gov, Phone: 214-767-1865.
Region VII | IA, KS, MO, NE | Lacey Boven, Email: lacey.boven@acl.hhs.gov, Phone: 816-702-4180.
Region VIII | CO, MT, UT, WY, ND, SD | Percy Devine, Email: percy.devine@acl.hhs.gov, Phone: 303-844-2951.
Region IX | CA, NV, AZ, HI, GU, CNMI, AS | Fay Gordon, Email: Fay.Gordon@acl.hhs.gov, Phone: 415-437-8780.
Region X | AK, ID, OR, WA | Louise Ryan, Email: Louise.Ryan@acl.hhs.gov, Phone: (206) 615-2299.

2. Submission Dates and Times

To receive consideration, Letters of Assurance and the Initial Spend Plan must be submitted by 11:59 p.m. Eastern Time on EST March 3, 2021. Letters of Assurance and the Initial Spend Plan should be submitted electronically via email and have an electronic time stamp indicating the date/time submitted.

VII. Agency Contacts

1. Programmatic Issues

Direct programmatic inquiries to: Stephanie Whittier Eliason, Email: stephanie.whittiereliason@acl.hhs.gov, Phone: 202.795.7467.

2. Submission Issues

Direct inquiries regarding submission of the Letters of Assurance to the appropriate ACL Regional Administrator found in the table in “Section IV. Submission Information.”

Dated: January 27, 2021.
Alison Barkoff,
Acting Administrator and Assistant Secretary for Aging.

[FR Doc. 2021-02091 Filed 1-29-21; 8:45 am]

BILLING CODE 4154-01-P